DEPARTMENT OF THE INTERIOR

National Park Service

[NPS-WASO-NAGPRA-NPS0025405; PPWOCRADN0-PCU00RP14.R50000]

Notice of Inventory Completion: Nebraska State Historical Society, Lincoln, NE

AGENCY: National Park Service, Interior.

ACTION: Notice.

SUMMARY: The Nebraska State Historical Society (NSHS) has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the NSHS. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the NSHS at the address in this notice by May 31, 2018.

ADDRESSES: Rob Bozell, Nebraska State Historical Society, P.O. Box 82554, Lincoln, NE 68501, telephone (402) 525-1624, email rob.bozell@nebraska.gov.

SUPPLEMENTARY INFORMATION: Notice is here given in accordance with the Native American Graves Protection and Repatriation Act (NAGPRA), 25 U.S.C. 3003, of the completion of an inventory of human remains under the control of the Nebraska State Historical Society, Lincoln, NE. The human remains were removed from Nance County, NE.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the NSHS professional staff in consultation with representatives of the Pawnee Nation of Oklahoma.

History and Description of the Remains

In 1936, human remains representing, at minimum, one individual were removed from the Wright Site (25NC3) in Nance County, NE. The human remains were excavated by the NSHS during an archeological investigation. Age and sex of the individual are indeterminate. No known individual was identified. There are no associated funerary objects.

The Wright Site is a well-documented, Pawnee earthlodge village. Human remains from the site have been previously repatriated to the Pawnee Nation of Oklahoma. In 2017, these human remains were found at the NSHS in a box labeled `animal bone.'

Determinations Made by the NSHS

Officials of the NSHS have determined that:

• Pursuant to 25 U.S.C. 3001(9), the human remains described in this notice represent the physical remains of one individual of Native American ancestry.

• Pursuant to 25 U.S.C. 3001(2), there is a relationship of shared group identity that can be reasonably traced between the Native American human remains and Pawnee Nation of Oklahoma.

Additional Requestors and Disposition

Lineal descendants or representatives of any Indian Tribe or Native Hawaiian organization not identified in this notice that wish to request transfer of control of these human remains should submit a written request with information in support of the request to Rob Bozell, Nebraska State Historical Society, P.O. Box 82554, Lincoln, NE 68501, telephone (402) 525-1624, email rob.bozell@nebraska.gov, by May 31, 2018. After that date, if no additional requestors have come forward, transfer of control of the human remains to the Pawnee Nation of Oklahoma may proceed.

The NSHS is responsible for notifying the Pawnee Nation of Oklahoma that this notice has been published.

Dated: April 10, 2018.
Melanie O'Brien,
Manager, National NAGPRA Program.

[FR Doc. 2018-09174 Filed 4-30-18; 8:45 am]

BILLING CODE 4312-52-P